DEPARTMENT OF TRANSPORTATION

Federal Aviation Administration

14 CFR Part 39

[Docket No. FAA-2005-22206; Directorate Identifier 2005-CE-45-AD]

RIN 2120-AA64

Airworthiness Directives; DG Flugzeugbau GmbH Models DG-800B and DG-500MB Sailplanes

AGENCY: Federal Aviation Administration (FAA), DOT.

ACTION: Notice of proposed rulemaking (NPRM).

SUMMARY: The FAA proposes to adopt a new airworthiness directive (AD) for certain DG Flugzeugbau GmbH Models DG-800B and DG-500MB sailplanes. This proposed AD would require you to modify the connection of the starter ring gear to the lower drive belt pulley adapter. This proposed AD results from mandatory continuing airworthiness information (MCAI) issued by the airworthiness authority for Germany. We are issuing this proposed AD to prevent the bolts currently used to connect the starter ring gear to the drive belt pulley adapter from shearing off and the bolt heads falling into the engine compartment. Failure of this connection could render the engine inoperative. Consequently, this failure could lead to loss of control of the sailplane.

DATES: We must receive any comments on this proposed AD by November 9, 2005.

ADDRESSES: Use one of the following to submit comments on this proposed AD:

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact DG-Flugzeugbau, Postbox 41 20, D-76625 Bruchsal, Federal Republic of Germany; telephone: ++49 7257 890; facsimile: ++45 7257 8922; e-mail: www.dg-flugzeugbau.de.

To view the comments to this proposed AD, go to http://dms.dot.gov. This is docket number FAA-2005-22206; Directorate Identifier 2005-CE-45-AD.

FOR FURTHER INFORMATION CONTACT: Gregory Davison, Glider Project Manager, ACE-112, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2005-22206; Directorate Identifier 2005-CE-45-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-22206; Directorate Identifier 2005-CE-45-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation Nassif Building at the street address stated in ADDRESSES. You may also view the AD docket on the Internet at http://dms.dot.gov. The comments will be available in the AD docket shortly after the DMS receives them.

Discussion

What events have caused this proposed AD? The Luftfahrt-Bundesamt (LBA), which is the airworthiness authority for Germany, recently notified FAA that an unsafe condition may exist on certain DG Flugzeugbau GmbH Models DG-800B and DG-500MB sailplanes. The LBA reports that sheared off bolt heads have been found in the engine compartment of approximately 20 of the specified sailplanes. These bolts connect the starter ring gear to the lower drive belt pulley adapter. Failure of this connection could render the engine inoperative.

What is the potential impact if FAA took no action? The bolts currently used to connect the starter ring gear to the drive belt pulley adapter may shear off and the bolt heads could fall into the engine compartment. Failure of this connection could render the engine inoperative. Consequently, this failure could lead to loss of control of the sailplane.

Is there service information that applies to this subject? DG-Flugzeugbau GmbH has issued Working Instruction No. 1 for TN 873/30, dated June 9, 2004; and Technical Note No. 873/30 and No. 843/22, approved by LBA on June 29, 2004, and approved by the European Aviation Safety Agency on July 9, 2004.

What are the provisions of this service information? The service information includes procedures for:

—Removing the starter ring gear assembly with adapter and lower pulley;

—Modifying the connection area where the bolts connect the starter ring gear to the lower drive belt pulley adapter; and

—Reinstalling the starter ring gear assembly with the adapter and lower pulley.

What action did the LBA take? The LBA classified this service information as mandatory and issued German AD Number D-2004-347, dated July 2, 2004, to ensure the continued airworthiness of these sailplanes in Germany.

Did the LBA inform the United States under the bilateral airworthiness agreement? These DG Flugzeugbau GmbH Models DG-800B and DG-500MB sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other DG Flugzeugbau GmbH Models DG-800B and DG-500MB sailplanes of the same type design that are registered in the United States, we are proposing AD action to prevent the bolts currently used to connect the starter ring gear to the drive belt pulley adapter from shearing off and the bolt heads falling into the engine compartment. Failure of this connection could render the engine inoperative. Consequently, this failure could lead to loss of control of the sailplane.

What would this proposed AD require? This proposed AD would require you to incorporate the actions in the previously-referenced service information.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 7 sailplanes in the U.S. registry.

What would be the cost impact of this proposed AD on owners/operators of the affected sailplanes? We estimate the following costs to do this proposed modification:

Labor cost | Parts cost | Total cost per sailplane | Total cost on U.S. operators
3 workhours × $65 = $195 | $21 | $216 | $1,512

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-22206; Directorate Identifier 2005-CE-45-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

DG Flugzeugbau GmbH: Docket No. FAA-2005-22206; Directorate Identifier 2005-CE-45-AD.

When Is the Last Date I Can Submit Comments on This Proposed AD?

(a) We must receive comments on this proposed airworthiness directive (AD) by November 9, 2005.

What Other ADs Are Affected by This Action?

(b) None.

What Sailplanes Are Affected by This AD?

(c) This AD affects the following airplane models and serial numbers that are certificated in any category:

Model | Serial numbers
(1) DG-800B | All serial numbers up to and including 8-260, with the exception of 8-247 and 8-258; and
(2) DG-500MB | All serial numbers up to and including 5E220B15, with the exception of 5E190B5.

What Is the Unsafe Condition Presented in This AD?

(d) This AD is the result of bolt failure in the connection of the starter ring gear to the drive belt pulley adapter. The bolt heads may shear off and the bolt heads could fall into the engine compartment. The actions specified in this AD are intended to prevent the bolts currently used to connect the starter ring gear to the drive belt pulley adapter from shearing off and the bolt heads falling into the engine compartment. Failure of this connection could render the engine inoperative. Consequently, this failure could lead to loss of control of the sailplane.

What Must I Do To Address This Problem?

(e) To address this problem, you must do the following, unless already done:

Actions | Compliance | Procedures
(1) Remove the starter ring gear assembly with adapter and lower drive belt pulley | Within 30 days after the effective date of this AD | Follow DG-Flugzeugbau GmbH Working Instruction No. 1 for TN 873/30, dated June 9, 2004; and Technical Note No. 873/30 and No. 843/22, approved by Luftfahrt-Bundesamt (LBA) on June 29, 2004, and approved by European Aviation Safety Agency (EASA) on July 9, 2004.
(2) Modify the connection area where the bolts connect the starter ring gear to the lower drive belt pulley adapter | Within 30 days after the effective date of this AD | Follow DG-Flugzeugbau GmbH Working Instruction No. 1 for TN 873/30, dated June 9, 2004; and Technical Note No. 873/30 and No. 843/22, approved by LBA on June 29, 2004, and approved by EASA on July 9, 2004.
(3) Reinstall the starter ring gear assembly with the adapter and lower pulley | Within 30 days after the effective date of this AD | Follow DG-Flugzeugbau GmbH Working Instruction No. 1 for TN 873/30, dated June 9, 2004; and Technical Note No. 873/30 and No. 843/22, approved by LBA on June 29, 2004, and approved by EASA on July 9, 2004.

Note: Until the actions of this AD are done, the FAA strongly recommends you visually inspect the engine compartment before and after each flight for sheared off bolt heads. If discrepancies are found, discontinue use until modification is done. An owner/operator licensed under 14 CFR part 61 or part 65 may do these inspections.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Glider Project Manager, ACE-112, Small Airplane Directorate, 901 Locust, Room 301, Kansas City, Missouri 64106; telephone: (816) 329-4130; facsimile: (816) 329-4090.

Is There Other Information That Relates to This Subject?

(g) LBA Airworthiness Directive D-2004-347, dated July 2, 2004; DG-Flugzeugbau GmbH Working Instruction No. 1 for TN 873/30, dated June 9, 2004; and Technical Note No. 873/30 and No. 843/22, approved by LBA on June 29, 2004, and approved by the EASA on July 9, 2004, also address the subject of this AD.

May I Get Copies of the Documents Referenced in This AD?

(h) To get copies of the documents referenced in this AD, contact DG-Flugzeugbau, Postbox 41 20, D-76625 Bruchsal, Federal Republic of Germany; telephone: ++49 7257 890; facsimile: ++45 7257 8922; e-mail: www.dg-flugzeugbau.de. To view the AD docket, go to the Docket Management Facility; U.S. Department of Transportation, 400 Seventh Street, SW., Nassif Building, Room PL-401, Washington, DC, or on the Internet at http://dms.dot.gov. This is docket number FAA-2005-22206; Directorate Identifier 2005-CE-45-AD.

Issued in Kansas City, Missouri, on September 28, 2005.
David R. Showers,
Acting Manager, Small Airplane Directorate, Aircraft Certification Service.

[FR Doc. 05-19936 Filed 10-4-05; 8:45 am]

BILLING CODE 4910-13-P